FEDERAL COMMUNICATIONS COMMISSION

[Report No. 2471]

Petitions for Reconsideration and Clarification of Action in Rulemaking Proceedings

March 9, 2001.

Petitions for Reconsideration and Clarification have been filed in the Commission's rulemaking proceedings listed in this Public Notice and published pursuant to 47 CFR Section 1.429(e). The full text of these documents are available for viewing and copying in Room CY-A257, 445 12th Street, SW., Washington, DC, or may be purchased from the Commission's copy contractor, ITS, Inc. (202) 857-3800. Oppositions to these petitions must be filed by April 2, 2001. See Section 1.4(b)(1) of the Commission's rules (47 CFR 1.4(b)(1)). Replies to an opposition must be filed within 10 days after the time for filing oppositions have expired.

Subject: Federal-State Joint Board on Universal Service (CC Docket No. 96-45).

Number of Petitions Filed: 1.

Subject: Federal-State Joint Board on Universal Service (CC Docket No. 96-45).

Changes to the Board of Directors of the National Exchange Carrier Association, Inc. (CC Docket No. 97-21).

Number of Petitions Filed: 3.

Subject: Federal-State Joint Board on Universal Service (CC Docket No. 96-45). Access Charge Reform (CC Docket No. 96-262).

Number of Petitions Filed: 2.

Subject: Federal-State Joint Board on Universal Service: Recommendations for Phasing Down Interim Hold-Harmless Provision (CC Docket No. 96-45).

Number of Petitions Filed: 1.

Subject: Amendment of Section 73.202(b), Table of Allotments, FM Broadcast Stations, Rincon, Puerto Rico (MM Docket No. 00-123, RM-9903).

Number of Petitions Filed: 1.

Subject: 1988 Biennial Regulatory Review—Streamlining of Radio Technical Rules in Parts 73 and 74 of the Commission's Rules (MM Docket No. 98-93).

Number of Petitions Filed: 3.

Federal Communications Commission.
Magalie Roman Salas,
Secretary.

[FR Doc. 01-6552 Filed 3-15-01; 8:45 am]

BILLING CODE 6712-01-M